DEPARTMENT OF HEALTH AND HUMAN SERVICES

Food and Drug Administration

Vaccines and Related Biological Products Advisory Committee; Amendment of Notice

AGENCY: Food and Drug Administration, HHS.

ACTION: Notice.

The Food and Drug Administration (FDA) is announcing an amendment to the notice of meeting of the Vaccines and Related Biological Products Advisory Committee. This meeting was originally announced in the Federal Register of April 16, 2007 (72 FR 19003). The amendment is being made to reflect a change in the Date and Time, Agenda, and Procedure portions of the meeting.

FOR FURTHER INFORMATION CONTACT: Christine Walsh or Denise Royster, Center for Biologics Evaluation and Research (HFM-71), Food and Drug Administration, 1401 Rockville Pike, Rockville, MD 20852, 301-827-0314, or FDA Advisory Committee Information Line, 1-800-741-8138 (301-443-0572 in the Washington, DC area), code 3014512391.

SUPPLEMENTARY INFORMATION: In the Federal Register of April 16, 2007, FDA announced that a meeting of the Vaccines and Related Biological Products Advisory Committee would be held on May 16, 2007, from 9 a.m. to 4:30 p.m. and May 17, 2007, from 8 a.m. to 1 p.m. Changes to the meeting times, agenda, and procedure are as follows:

• The meeting will be held on May 16, 2007, from 8:30 a.m. to 4:45 p.m. and on May 17, 2007, from 9 a.m. to 3:30 p.m.

• In addition to the agenda items listed in the April 16, 2007, meeting notice, on May 16, 2007, in the afternoon session, the committee will hear an update on the influenza strain selection for the 2007 to 2008 influenza season. As stated in the April 16, 2007, meeting notice, FDA intends to make background material available to the public no later than 1 business day before the meeting. If FDA is unable to post the background material on its Web site prior to the meeting, the background material will be made publicly available at the location of the advisory committee meeting, and the background material will be posted on FDA's Web site after the meeting. Background material is available at http://www.fda.gov/ohrms/dockets/ac/acmenu.htm, click on the year 2007 and scroll down to the appropriate advisory committee link.

• On May 16, 2007, from 8:30 a.m. to 4:05 p.m. and on May 17, 2007, from 9 a.m. to 3:30 p.m., the meeting is open to the public. Interested persons may present data, information, or views, orally or in writing, on issues pending before the committee. Oral presentations from the public will be scheduled between approximately 11:25 a.m. and 11:55 a.m. and between 3:35 p.m. and 4:05 p.m. on May 16, 2007, and between approximately 12:45 p.m. and 1:15 a.m. on May 17, 2007.

• On May 16, 2007, from 4:05 p.m. to 4:45 p.m., the meeting will be closed to permit discussion where disclosure would constitute a clearly unwarranted invasion of personal privacy (5 U.S.C. 552b(c)(6)).

There are no other changes to the meeting.

This notice is issued under the Federal Advisory Committee Act (5 U.S.C. app. 2) and 21 CFR part 14, relating to the advisory committees.

Dated: May 7, 2007.
Randall W. Lutter,
Associate Commissioner for Policy and Planning.

[FR Doc. E7-9053 Filed 5-9-07; 8:45 am]

BILLING CODE 4160-01-S